DEPARTMENT OF THE INTERIOR

National Park Service

National Register of Historic Places; Notification of Pending Nominations

Nominations for the following properties being considered for listing in the National Register were received by the National Park Service before August 23, 2003. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by October 9, 2003.

Beth L. Savage,
Acting Keeper of the National Register of Historic Places.

CALIFORNIA

Colusa County

Cecil Ranch, 1840 CA 45, Grimes, 03000988

Los Angeles County

Anderton Court Shops, 332 N. Rodeo Dr., Beverly Hills, 03000987

Santa Clara County

Twohy Building, 210 S. First St., San Jose, 03000989

FLORIDA

Bay County

Sapp House, 224 Third Court, Panama City, 03000991

Collier County

Roberts Ranch, 1215 Roberts Ave., Immokalee, 03000990

MASSACHUSETTS

Essex County

Bellvue Cemetery, 170 May St., Lawrence, 03000993

Worcester County

Fitchburg Historical Society, 50 Grove St., Fitchburg, 03000992

MISSOURI

St. Louis County

Mount Hope Cemetery, 1215 Lemay Ferry Rd., Lemay, 03000994

NEW MEXICO

Lincoln County

Carrizozo Woman's Club, (New Mexico Federation of Women's Club Buildings in New Mexico MPS), 908 Eleventh St., Carrizozo, 03000995

Taos County

Ojo Caliente Hot Springs Round Barn, 500 uds N of the western terminus of NM 414, Ojo Caliente, 03000996

NEW YORK

Hamilton County

Wakely Mountain Fire Observation Station, (Fire Observation Stations of New York State Forest Preserve MPS), Wakely Mountain, Lake Pleasant, 03000998

New York County

Murray Hill Historic District, (Murray Hill, New York County, New York MPS), Roughly bounded by East 35th St., East 39th St., Park Ave. and Lexington Ave., New York, 03000997

Westchester County

African Cemetery, North St., Rye, 03000999

RHODE ISLAND

Bristol County

Warren Waterfront Historic District, Roughly bounded by East Bay Bicycle Path, Wheaton St. and Warren River, Warren, 03001000

SOUTH CAROLINA

Charleston County

Folly North Site—38CH1213, Address Restricted, Folly Beach, 03001001

Spartanburg County

Central Methodist Church, 233 N. Church St., Spartanburg, 03001002

TENNESSEE

Lincoln County

St. Paul African Methodist Episcopal Church, (Rural African-American Churches in Tennessee MPS), 521 W. College St., Fayetteville, 03001003

[FR Doc. 03-24172 Filed 9-23-03; 8:45 am]

BILLING CODE 4312-51-P